DEPARTMENT OF DEFENSE

Defense Acquisition Regulations System

48 CFR Parts 215 and 252

[Docket DARS-2018-0008]

RIN 0750-AJ19

Defense Federal Acquisition Regulation Supplement: Only One Offer (DFARS Case 2017-D009); Correction

AGENCY: Defense Acquisition Regulations System, Department of Defense (DoD).

ACTION: Final rule; correction.

SUMMARY: DoD is issuing a correction to the final rule “Only One Offer (DFARS Case 2017-D009),” which was published in the Federal Register on June 28, 2019. This document corrects a threshold referenced in the summary of the final regulatory flexibility analysis, the dates of the solicitation provision and contract clause, and a minor typographical error.

DATES: Effective: July 31, 2019.

FOR FURTHER INFORMATION CONTACT: Ms. Amy G. Williams, telephone 571-372-6106.

SUPPLEMENTARY INFORMATION:

Corrections

In the rule FR Doc. 2019-13739, published in the Federal Register at 84 FR 30947 on June 28, 2019, make the following corrections:

Preamble Correction

1. On page 30949, in the second column, correct the last sentence of the last paragraph under Section VI. Regulatory Flexibility Act to read as follows:

Impact on small businesses is lessened, because the requirement for certified cost or pricing data only applies to acquisitions that exceed $2 million and there is an exception for the acquisition of commercial items, including COTS items.

Regulatory Text Corrections

252.215-7008 [Corrected]

2. On page 30950, in the first column, in amendatory instruction 4.a. for section 252.215-7008, remove the provision date “(JUN 2019)” and add “(JUL 2019)” in its place.

252.215-7010 [Corrected]

3. On page 30950, in the second column, for section 252.215-7010—

a. In amendatory instruction 5.a.i., remove the clause date “(JUN 2019)” and add “(JUL 2019)” in its place; and

b. In paragraph (c)(3), removed “satisfy to Government's” and add “satisfy the Government's” in its place.

Authority: 41 U.S.C. 1303 and 48 CFR chapter 1.

Jennifer Lee Hawes,
Regulatory Control Officer, Defense Acquisition Regulations System.

[FR Doc. 2019-14991 Filed 7-15-19; 8:45 am]

BILLING CODE 5001-06-P